DEPARTMENT OF HEALTH AND HUMAN SERVICES

Food and Drug Administration

[Docket No. 1983G-0318]

Kerry, Inc.; Withdrawal of Generally Recognized as Safe Affirmation Petition

AGENCY: Food and Drug Administration, HHS.

ACTION: Notice.

SUMMARY: The Food and Drug Administration (FDA) is announcing the withdrawal, without prejudice to a future filing, of a generally recognized as safe (GRAS) affirmation petition (GRASP 3G0287) proposing that the use of gum acacia (arabic) in alcoholic beverages up to a maximum level of 20 percent in the finished preparation (liqueur) is GRAS.

FOR FURTHER INFORMATION CONTACT: Mical Honigfort, Center for Food Safety and Applied Nutrition (HFS-265), Food and Drug Administration, 5100 Paint Branch Pkwy., College Park, MD 20740, 301-436-1278.

SUPPLEMENTARY INFORMATION: In a notice published in the Federal Register of October 13, 1983 (48 FR 46626), FDA announced that a petition (GRASP 3G0287) had been filed by Beatrice Foods Co., c/o 135 South LaSalle, Chicago, IL 60603 (now Kerry, Inc., c/o Bell, Boyd, and Lloyd, LLC, Three First National Plaza, 70 West Madison St., suite 3300, Chicago, IL 60602). This petition proposed to amend § 184.1330 Acacia (gum arabic) (21 CFR 184.1330) to affirm the use of gum acacia (arabic) in alcoholic beverages up to a maximum level of 20 percent in the finished preparation (liqueur) as GRAS.

Kerry, Inc. has now withdrawn the petition without prejudice to a future filing (21 CFR 171.7).

Dated: January 28, 2005.
Leslye M. Fraser,
Director, Office of Regulations and Policy, Center for Food Safety and Applied Nutrition.

[FR Doc. 05-3024 Filed 2-16-05; 8:45 am]

BILLING CODE 4160-01-S